DEPARTMENT OF TRANSPORTATION

Federal Aviation Administration

14 CFR Part 39

[Docket No. FAA-2020-0418; Product Identifier 2017-SW-053-AD; Amendment 39-21210; AD 2020-17-05]

RIN 2120-AA64

Airworthiness Directives; Airbus Helicopters Deutschland GmbH Helicopters

AGENCY: Federal Aviation Administration (FAA), Department of Transportation (DOT).

ACTION: Final rule.

SUMMARY: The FAA is adopting a new airworthiness directive (AD) for certain Airbus Helicopters Deutschland GmbH Model MBB-BK 117 D-2 helicopters. This AD was prompted by the discovery that certain longitudinal trim actuators, lateral trim actuators, and yaw trim actuators, which are certified for installation on MBB-BK 117 C-2 helicopters, were erroneously listed as eligible for installation on MBB-BK 117 D-2 helicopters. This AD requires removing the affected parts from service and prohibits installing the affected parts on MBB-BK 117 D-2 helicopters. The FAA is issuing this AD to address the unsafe condition on these products.

DATES: This AD is effective September 17, 2020.

ADDRESSES: For service information identified in this final rule, contact Airbus Helicopters, 2701 N Forum Drive, Grand Prairie, TX 75052; phone: 972-641-0000 or 800-232-0323; fax: 972-641-3775; or at https://www.airbus.com/helicopters/services/support.html. You may view this service information at the FAA, Office of the Regional Counsel, Southwest Region, 10101 Hillwood Pkwy., Room 6N-321, Fort Worth, TX 76177. For information on the availability of this material at the FAA, call 817-222-5110.

Examining the AD Docket

You may examine the AD docket on the internet at https://www.regulations.gov by searching for and locating Docket No. FAA-2020-0418; or in person at Docket Operations between 9 a.m. and 5 p.m., Monday through Friday, except Federal holidays. The AD docket contains this final rule, any comments received, and other information. The street address for Docket Operations is listed above.

FOR FURTHER INFORMATION CONTACT: David Hatfield, Aviation Safety Engineer, Safety Management Section, Rotorcraft Standards Branch, FAA, 10101 Hillwood Pkwy., Fort Worth, TX 76177; phone: 817-222-5110; email: david.hatfield@faa.gov.

SUPPLEMENTARY INFORMATION:

Discussion

The FAA issued a notice of proposed rulemaking (NPRM) to amend 14 CFR part 39 by adding an AD that would apply to certain Airbus Helicopters Deutschland GmbH Model MBB-BK 117 D-2 helicopters. The NPRM published in the Federal Register on April 23, 2020 (85 FR 22684). The NPRM was prompted by the discovery that certain longitudinal trim actuators, lateral trim actuators, and yaw trim actuators, which are certified for installation on MBB-BK 117 C-2 helicopters, were erroneously listed as eligible for installation on MBB-BK 117 D-2 helicopters. The NPRM proposed to require removing the affected parts from service and prohibit installing the affected parts on MBB-BK 117 D-2 helicopters. The FAA is issuing this AD to address erroneously installed longitudinal trim actuators, lateral trim actuators, and yaw trim actuators, which could lead to reduced control of the helicopter.

The European Aviation Safety Agency (now European Union Aviation Safety Agency) (EASA), which is the Technical Agent for the Member States of the European Union, has issued EASA AD 2017-0094, dated May 29, 2017 (EASA AD 2017-0094) (referred to after this as the Mandatory Continuing Airworthiness Information, or “the MCAI”), to correct an unsafe condition for Airbus Helicopters Deutschland GmbH Model MBB-BK 117 D-2 helicopters with a serial number (S/N) up to 20126 inclusive, excluding S/N 20109, 20119, and 20124. You may examine the MCAI in the AD docket on the internet at https://www.regulations.gov by searching for and locating Docket No. FAA-2020-0418.

Comments

The FAA gave the public the opportunity to participate in developing this final rule. The FAA received no comments on the NPRM or on the determination of the cost to the public.

Conclusion

The FAA reviewed the relevant data and determined that air safety and the public interest require adopting this final rule as proposed, except for minor editorial changes. The FAA has determined that these minor changes:

• Are consistent with the intent that was proposed in the NPRM for addressing the unsafe condition; and

• Do not add any additional burden upon the public than was already proposed in the NPRM.

Related Service Information

Airbus Helicopters has issued Alert Service Bulletin MBB-BK117 D-2-67A-005, Revision 0, dated April 3, 2017. This service information contains procedures for replacing the affected parts.

Differences Between This AD and the EASA AD

The EASA AD has a compliance time of “Within 400 flight hours, or within 12 months, whichever occurs first” for the replacement. However, this AD requires replacing affected parts within 300 hours time-in-service instead. The EASA AD prohibits the installation of an affected actuator on any helicopter, whereas this AD prohibits the installation of an affected actuator on any Model MBB-BK 117 D-2 helicopter instead.

Costs of Compliance

The FAA estimates that this AD would affect 29 helicopters of U.S. registry. Labor costs are estimated at $85 per work-hour. Based on these numbers, the FAA estimates the following costs to comply with this AD.

If required, replacing an actuator would take about 1.5 work-hours and parts would cost about $20,000 for an estimated cost of $20,128.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2020-17-05 Airbus Helicopters Deutschland GmbH: Amendment 39-21210; Docket No. FAA-2020-0418; Product Identifier 2017-SW-053-AD.

(a) Effective Date

This AD is effective September 17, 2020.

(b) Affected ADs

None.

(c) Applicability

This AD applies to Airbus Helicopters Deutschland GmbH Model MBB-BK 117 D-2 helicopters, certificated in any category, with a serial number up to 20126 inclusive, excluding serial numbers 20109, 20119, and 20124, and with any of the following installed:

(1) Longitudinal trim actuator part number (P/N) 418-00878-001,

(2) Lateral trim actuator P/N 418-00878-051, or

(3) Yaw trim actuator P/N 418-00879-001.

(d) Subject

Joint Aircraft Service Component (JASC) Code 6700, Rotors flight control.

(e) Unsafe Condition

This AD was prompted by the discovery that certain longitudinal trim actuators, lateral trim actuators, and yaw trim actuators were erroneously listed as eligible for installation on Model MBB-BK 117 D-2 helicopters. The FAA is issuing this AD to address this condition, which could lead to reduced control of the helicopter.

(f) Compliance

Comply with this AD within the compliance times specified, unless already done.

(g) Required Actions

(1) Within 300 hours time-in-service, remove from service any longitudinal trim actuator P/N 418-00878-001, lateral trim actuator P/N 418-00878-051, and yaw trim actuator P/N 418-00879-001.

(2) After the effective date of this AD, do not install longitudinal trim actuator P/N 418-00878-001, lateral trim actuator P/N 418-00878-051, or yaw trim actuator P/N 418-00879-001 on any Model MBB-BK 117 D-2 helicopter.

(h) Special Flight Permits

Special flight permits are prohibited.

(i) Alternative Methods of Compliance (AMOCs)

(1) The Manager, Rotorcraft Standards Branch, FAA, may approve AMOCs for this AD. Send your proposal to: David Hatfield, Aviation Safety Engineer, Safety Management Section, Rotorcraft Standards Branch, FAA, 10101 Hillwood Pkwy., Fort Worth, TX 76177; phone: 817-222-5110; email: 9-ASW-FTWAMOC-Requests@faa.gov.

(2) For operations conducted under a 14 CFR part 119 operating certificate or under 14 CFR part 91, subpart K, notify your principal inspector or lacking a principal inspector, the manager of the local flight standards district office or certificate holding district office, before operating any aircraft complying with this AD through an AMOC.

(j) Related Information

(1) The subject of this AD is addressed in European Aviation Safety Agency (now European Union Aviation Safety Agency) (EASA) AD 2017-0094, dated May 29, 2017. This EASA AD may be found in the AD docket on the internet at https://www.regulations.gov by searching for and locating Docket No. FAA-2020-0418.

(2) For more information about this AD, contact David Hatfield, Aviation Safety Engineer, Safety Management Section, Rotorcraft Standards Branch, FAA, 10101 Hillwood Pkwy., Fort Worth, TX 76177; phone: 817-222-5110; email: david.hatfield@faa.gov.

(3) Airbus Helicopters Alert Service Bulletin MBB-BK117 D-2-67A-005, Revision 0, dated April 3, 2017, which is not incorporated by reference, contains additional information about the subject of this AD. For service information identified in this AD, contact Airbus Helicopters, 2701 N Forum Drive, Grand Prairie, TX 75052; phone: 972-641-0000 or 800-232-0323; fax: 972-641-3775; or at https://www.airbus.com/helicopters/services/technical-support.html. You may view this service information at the FAA, Office of the Regional Counsel, Southwest Region, 10101 Hillwood Pkwy., Room 6N-321, Fort Worth, TX 76177.

Issued on August 7, 2020.
Lance T. Gant,
Director, Compliance & Airworthiness Division, Aircraft Certification Service.

[FR Doc. 2020-17682 Filed 8-12-20; 8:45 am]

BILLING CODE 4910-13-P